DEPARTMENT OF THE INTERIOR

National Park Service

National Register of Historic Places; Notification of Pending Nominations and Related Actions

Nominations for the following properties being considered for listing or related actions in the National Register were received by the National Park Service before May 23, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by June 23, 2009.

J. Paul Loether,
Chief, National Register of Historic Places/National Historic Landmarks Program.

CALIFORNIA

Ventura County

First Baptist Church of Ventura, 101 S. Laurel St., Ventura, 09000466

CONNECTICUT

Fairfield County

Restmore, 375 Warner Hill Rd., Fairfield, 09000467

Hartford County

Case Brothers Historic District, 680-728 Spring St., 40 Glen Rd., and rough boundaries of Case Mountain Recreation Area and Manchester Land, Manchester, 09000468

MASSACHUSETTS

Berkshire County

West Stockbridge Town Hall, 9 Main St., West Stockbridge, 09000469

Hampshire County

Gate Cemetery, Ireland St., Chesterfield, 09000470

Ireland Street Cemetery, Ireland St., Chesterfield, 09000471

MICHIGAN

Berrien County

Zinc Collar Pad Company Building, 304 S. Oak St., Buchanan, 09000472

Houghton County

Chassell School Complex, 42373, 42365 N. Hancock St., Chassell, 09000473

Jackson County

Hebrew Cemetery, 420 N.W. Ave., Jackson, 09000474

Otsego County

Johannesburg Manufacturing Company Store, 10816 M-32 E., Johannesburg, 09000475

St. Joseph County

Clapp, Leverett A. and Amanda (Hampson), House, 324 W. Main St., Centreville, 09000476

MISSOURI

Cole County

Munichburg Commercial Historic District, (Southside Munichburg, Missouri MPS) 114-130 (even only) E. Dunklin St., 610, 620 Madison St., 704 Madison St., Jefferson City, 09000477

NEW YORK

Cayuga County

Hutchinson Homestead, 6080 Lake St., Cayuga, 09000478

Columbia County

Rockefeller, Simeon, House, 524 Columbia Co. Rte. 8, Germantown, 09000479

St. John's Lutheran Church, 1273 Co. Rte. 7, Ancram, 09000480

Washington County

Stoops Hotel, 2839 NY 29, Battenville, 09000481

NORTH DAKOTA

Grand Forks County

Grand Forks Near Southside Historic District (Second Boundary Increase), 1019 Reeves Dr., Grand Forks, 09000482

SOUTH CAROLINA

Chester County

Lando School, Schoolhouse Rd., Lando, 09000485

Greenville County

Campbell's Covered Bridge, 123 Campbell Covered Bridge Rd., Gowensville, 09000483

Hampton County

Lawton, John, House, 118 3rd. St., Estill, 09000484

TEXAS

Cameron County

Hicks-Gregg House, 1249 W. Washington St., Brownsville, 09000486

WISCONSIN

Columbia County

Griswold, George, House, 146 S. Dickason Blvd., Columbus, 09000487

Ingalsbe, Adolphus and Sarah, House, 546 Park Ave., Columbus, 09000488

Request for REMOVAL has been made for the following resources:

WISCONSIN

Milwaukee County

Coast Guard Station, Old, 1600 N. Lincoln Memorial Dr., Milwaukee, 89001047

St. Croix County

Williams, T.E., Block, 321 2nd St., Hudson, 84000070

[FR Doc. E9-13249 Filed 6-5-09; 8:45 am]

BILLING CODE P